BROADCASTING BOARD OF GOVERNORS

Privacy Act of 1974; New System of Records

AGENCY: The Broadcasting Board of Governors.

ACTION: Notice of a new system of records.

SUMMARY: BBG proposes to add a new financial and acquisition management system to its inventory of records system subject to the Privacy Act of 1974 (5 U.S.C. 522a), as amended. The primary purpose of the system are: (a) To integrate program, budgetary, financial, travel, and procurement information; (b) To ensure that agency financial and procurement activities are in conformance with laws, existing rules and regulations, good business practices; (c) To maintain information at the proper account and/or organizational level for agency operations. This action is necessary to meet the requirement of the Privacy Act to publish in the Federal Register notice of the existence and character of records maintained by the agency (5 U.S.C. 522a(e)(4)).

DATES: This action will be effective without further notice on October 27, 2014, unless comments are received that would result in a contrary determination.

ADDRESSES: Send written comments to the Broadcasting Board of Governors, ATTN: Paul Kollmer, Chief Privacy Officer, 330 Independence Avenue, Room 3349, Washington, DC 20237.

FOR FURTHER INFORMATION CONTACT: Renea Ramos, cfo-financial-operations@bbg.gov.

Dated: September 9, 2014.
André Mendes,
Director of Global Operations.

BBG 21—Office of Chief Financial Officer (BBG Financial and Acquisition Management System)

System Name:

Broadcasting Board of Governors (BBG) Financial and Acquisition Management System

Security Classification:

None.

System Location:

BBG Financial and Acquisition Management System records and files are maintained in the Phoenix Data Center (PDC), with records also stored at the Broadcasting Board of Governors (BBG), 330 Independence Avenue SW., Washington, DC 20237.

Categories of Individuals Covered by the System:

BBG vendors/contractors, grant recipients, employees, interns, students, consultants, experts, and others.

Categories of Records in the System:

Business related information

These records contain information about vendors/contractors and grant recipients, and may include the following elements: Names including name of company, titles, points of contact information, telephone numbers, fax numbers, addresses, email addresses, vendor or record numbers (system unique identifiers), Tax Identification Numbers (TIN), Social Security Numbers (SSN), Dun & Bradstreet (D&B) Data Universal Numbering System (DUNS) and DUNS Plus 4 numbers, Commercial and Government Entity (CAGE) codes, or contract, agreement, and debarment information.

Information related to employees, interns, students, consultants, experts, and others

These records contain information about BBG employees, interns, students, consultants, experts, and others that are in connection with BBG activities. The records may include the following elements: Names, titles, points of contact, telephone numbers, fax numbers, addresses, email addresses, record numbers (system unique identifiers), TINs, SSNs, and travel information.

Financial related information

May be associated with the categories of records listed above that are within this system and may include the following elements: Financial institution names, lockbox numbers, routing transit numbers, account numbers, account types, debts (e.g., unpaid bills/invoices, overpayments, etc.), and remittance addresses.

Authority for Maintenance of the System:

31 U.S.C. 3501, et seq., 31 U.S.C. 7701(c), 41 CFR parts 300-304, 2 CFR 25.215, and Federal Acquisition Regulation, 48 CFR. Where the employee identification number is the social security number, collection of this information is authorized by Executive Order 9397 as amended by Executive Order 13478.

Purpose:

Serves as the BBG's core financial and acquisitions management system that integrates program, budgetary, financial, travel, and procurement information. Records are collected to ensure that agency financial and procurement activities are in conformance with laws, existing rules and regulations, good business practices, and for the maintenance of information at the proper account and/or organizational level for agency operations.

Routine uses of records maintained in the system, including categories of users and the purposes of such uses:

Disclosure in response to a compromise of information

To appropriate agencies, entities, and persons when (a) it is suspected or confirmed that the security or confidentiality of information in the system of records has been compromised; (b) the BBG has determined that, as a result of the suspected or confirmed compromise, there is a risk of harm to economic or property interests, identity theft or fraud, or harm to the security or integrity of this system or other systems or programs (whether maintained by the BBG or another agency or entity) that rely upon the compromised information; and (c) the disclosure made to such agencies, entities, and persons is reasonably necessary to assist in connection with the BBG's efforts to respond to the suspected or confirmed compromise and prevent, minimize, or remedy such harm. Also see Statement of General Routine Uses.

Disclosure to consumer reporting agencies:

Disclosures may be made from this system to consumer reporting agencies in accordance with 5 U.S.C. 552a(b)(12) and 31 U.S.C. 3711(e).

Policies and practices for storing, retrieving, accessing, retaining, and disposing of records in the system:

Storage:

Records are maintained in electronic and paper format. Electronic records are stored in secure computerized databases and/or on computer disc. Paper records and records on computer disc are stored in locked rooms and/or file cabinets.

Retrievability:

Records are retrievable by the following, including but not limited to, record and system unique identifiers, DUNS and/or DUNS Plus 4 numbers, CAGE codes, TINs (including SSN), names, titles, addresses, or by any of the elements listed above within the categories of records within this system.

Safeguards:

Records are safeguarded in a secured environment. Buildings where records are stored have security cameras and 24-hour security guard service. The records are maintained in limited access areas during duty hours and in locked file cabinets and/or locked offices or file rooms at all other times. Access is limited to those personnel who require access to the records in the performance of their agency duties. Access to electronic records is controlled through the use of access codes and/or information technology security.

Retention and disposal:

These records will be maintained in accordance with the General Records Schedule. After which, they will be retired or destroyed in accordance with and as approved by the National Archives and Records Administration (NARA).

System manager and address:

Chief Financial Officer, Office of the Chief Financial Officer, Broadcasting Board of Governors, 330 Independence Avenue SW., Washington, DC 20237.

Notification procedures:

Individuals who want to know whether this system of records contains information about them, or who want access to their records, or who want to contest the contents of a record, should make a written request to: FOIA/Privacy Act Officer, Broadcasting Board of Governors (BBG), Suite 3349, 330 Independence Ave. SW., Washington, DC 20237. Individuals' requests should contain the name and address of the system manager (listed above) and the following information to enable their records to be located and identified:

A. Full legal name; B. Date of Birth; C. Social Security Number; D. Last employing organization (include duty station location) and the approximate dates of employment or contact; and E. Signature.

Records access procedures: Individuals wishing to request access to their records should follow the Notification Procedures (listed above). Individuals requesting access will also be required to provide adequate identification, such as driver's license, employee identification card, and/or other identifying document. Additional identification procedures may be required in some instances. To request a file other than your own, you must have a notarized, signed statement giving you express permission to access the file from the individual to whom the file pertains.

Contesting record procedures:

The BBG's rules for access and for contesting contents and appealing determinations by the individual concerned appear at 22 CFR part 505. The right to contest records is limited to information that is incomplete, irrelevant, erroneous or untimely.

Record source categories:

From individuals (e.g., vendors/contractors, employees, etc.) that are covered within this system as described within the categories of records listed above, and through agency personnel who obtain the information through agency duties.

Exemptions claimed for the system:

None.

[FR Doc. 2014-22147 Filed 9-16-14; 8:45 am]

BILLING CODE 8610-01-P